DEPARTMENT OF VETERANS AFFAIRS

[OMB Control No. 2900-0427]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before November 2, 2006.

FOR FURTHER OR A COPY OF THE SUBMISSION CONTACT: Denise McLamb, Initiative Coordination Service (005G1), Department of Veterans Affairs, 810 Vermont Avenue, NW., Washington, DC 20420, (202) 565-8374, FAX (202) 565-7870 or e-mail to: denise.mclamb@mail.va.gov. Please refer to “OMB Control No. 2900-0427.”

Send comments and recommendations concerning any aspect of the information collection to VA's OMB Desk Officer, OMB Human Resources and Housing Branch, New Executive Office Building, Room 10235, Washington, DC 20503, (202) 395-7316. Please refer to “OMB Control No. 2900-0427” in any correspondence.

SUPPLEMENTARY INFORMATION: Title: Former POW Medical History, VA Form 10-0048.

OMB Control Number: 2900-0427.

Type of Review: Extension of a currently approved collection.

Abstract: VA physicians complete VA Form 10-0048 during a claimant's medical examination. The data collected will be use to assess the healthcare, disability compensation or rehabilitation needs of former prisoner of war.

An agency may not conduct or sponsor, and a person is not required to respond to a collection of information unless it displays a currently valid OMB control number. The Federal Register Notice with a 60-day comment period soliciting comments on this collection of information was published on June 29, 2006 at page 37167.

Affected Public: Individuals or households.

Estimated Total Annual Burden: 113 hours.

Estimated Average Burden Per Respondent: 90 minutes.

Frequency of Response: One time.

Estimated Number of Respondents: 75.

Dated: September 20, 2006.
By direction of the Secretary.
Denise McLamb,
Program Analyst, Initiative Coordination Service.

[FR Doc. E6-16214 Filed 10-2-06; 8:45 am]

BILLING CODE 8320-01-P